DEPARTMENT OF ENERGY

Hydrogen and Fuel Cell Technical Advisory Committee

AGENCY: Department of Energy, Office of Energy Efficiency and Renewable Energy.

ACTION: Notice of open meeting (Webinar).

SUMMARY: This notice announces an open meeting (Webinar) of the Hydrogen and Fuel Cell Technical Advisory Committee (HTAC). The Federal Advisory Committee Act, Public Law 92-463, 86 Stat. 770 requires that agencies publish notice of meetings in the Federal Register.

DATES: Wednesday, September 5, 2012; 12 p.m.-2 p.m. To be provided the Webinar's registration information, please email: HTAC@nrel.gov.

FOR FURTHER INFORMATION CONTACT: email to: HTAC@nrel.gov or at the mailing address: Jason Marcinkoski, Designated Federal Officer, U.S. Department of Energy, Office of Energy Efficiency and Renewable Energy, 1000 Independence Avenue, Washington, DC 20585.

SUPPLEMENTARY INFORMATION: Purpose of the Committee: The Hydrogen and Fuel Cell Technical Advisory Committee (HTAC) was established under Section 807 of the Energy Policy Act of 2005 (EPACT), Public Law 109-58; 119 Stat. 849, to provide advice and recommendations to the Secretary of Energy on the program and activities authorized by Title VIII of EPACT.

Tentative Agenda: (Subject to change; updates will be posted on the Committee's Web site at: http://hydrogen.energy.gov).

• Public Comment (10 minutes)

• Discussion of Hydrogen Production Expert Panel report

• Consultation in establishing the criteria for the H-Prize competition, as required by the Energy Independence and Security Act of 2007, in Sec. 654.

Public Participation: In keeping with procedures, members of the public are welcome to observe the business of the meeting of HTAC and to make oral statements during the specified period for public comment. The public comment period will take place between 12 p.m. and 12:10 p.m. on September 5, 2012. To attend the meeting and/or to make oral statements regarding any of the items on the agenda, please email HTAC@nrel.gov at least 5 business days before the meeting. Please indicate if you will be attending the meeting, whether you want to make an oral statement, and what organization you represent (if appropriate). Members of the public will be heard in the order in which they sign up for the public comment period. Oral comments should be limited to two minutes in length. Reasonable provision will be made to include the scheduled oral statements on the agenda. The chair of the committee will make every effort to hear the views of all interested parties and to facilitate the orderly conduct of business. If you would like to file a written statement with the committee, you may do so either by submitting a hard copy at the meeting or by submitting an electronic copy to via email to: HTAC@nrel.gov.

Minutes: The minutes of the meeting will be available for public review at the Committee's Web site at: http://hydrogen.energy.gov.

Issued at Washington, DC, on August 15, 2012.
LaTanya R. Butler,
Acting Deputy Committee Management Officer.

[FR Doc. 2012-20494 Filed 8-20-12; 8:45 am]

BILLING CODE 6450-01-P